SMALL BUSINESS ADMINISTRATION

[Disaster Declaration #16702 and #16703; North Carolina Disaster Number NC-00119]

Presidential Declaration of a Major Disaster for Public Assistance Only for the State of North Carolina

AGENCY: U.S. Small Business Administration.

ACTION: Notice.

SUMMARY: This is a Notice of the Presidential declaration of a major disaster for Public Assistance Only for the State of North Carolina (FEMA-4568-DR), dated 10/14/2020.

Incident: Hurricane Isaias.

Incident Period: 07/31/2020 through 08/04/2020.

DATES: Issued on 10/14/2020.

Physical Loan Application Deadline Date: 12/14/2020.

Economic Injury (EIDL) Loan Application Deadline Date: 07/14/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 10/14/2020, Private Non-Profit organizations that provide essential services of a governmental nature may file disaster loan applications at the address listed above or other locally announced locations.

The following areas have been determined to be adversely affected by the disaster:

Primary Counties: Beaufort, Bertie, Brunswick, Carteret, Chowan, Columbus, Craven, Hertford, Hyde, Jones, New Hanover, Onslow, Pamlico, Pender, Pitt

The Interest Rates are:

| Percent
For Physical Damage:
Non-Profit Organizations With Credit Available Elsewhere | 2.750
Non-Profit Organizations Without Credit Available Elsewhere | 2.750
For Economic Injury:
Non-Profit Organizations Without Credit Available Elsewhere | 2.750

The number assigned to this disaster for physical damage is 167028 and for economic injury is 167030.

(Catalog of Federal Domestic Assistance Number 59008)

Cynthia Pitts,
Acting Associate Administrator for Disaster Assistance.

[FR Doc. 2020-23129 Filed 10-19-20; 8:45 am]

BILLING CODE 8026-03-P